DEPARTMENT OF DEFENSE

Office of the Secretary

Defense Business Board; Notice of Federal Advisory Committee Meeting

AGENCY: DoD.

ACTION: Meeting notice; cancellation.

SUMMARY: On Tuesday, July 9, 2013 (78 FR 41042), the Department of Defense published a notice announcing a July 25, 2013 meeting of the Defense Business Board. This notice announces that the Defense Business Board meeting scheduled for Thursday, July 25, 2013 is hereby cancelled. The Board will not have any completed studies to outbrief and deliberate on. Therefore, to conserve financial resources, the meeting is cancelled. The next Quarterly Board Meeting will be held on October 17, 2013.

FOR FURTHER INFORMATION CONTACT: Ms. Phyllis Ferguson, Phyllis.Ferguson@osd.mil, 703-695-7563 or Ms. Debora Duffy, Debora.Duffy@osd.mil, (703) 697-2168.

Dated: July 16, 2013.
Aaron Siegel,
Alternate OSD Federal Register Liaison Officer, Department of Defense.

[FR Doc. 2013-17369 Filed 7-18-13; 8:45 am]

BILLING CODE 5001-06-P